DEPARTMENT OF TRANSPORTATION

Federal Aviation Administration

14 CFR Part 39

[Docket No. FAA-2010-1044; Directorate Identifier 2010-NM-033-AD]

RIN 2120-AA64

Airworthiness Directives; McDonnell Douglas Corporation Model DC-10-10, DC-10-10F, DC-10-15, DC-10-30, DC-10-30F (KC-10A and KDC-10), DC-10-40, DC-10-40F; Model MD-10-10F, MD-10-30F, MD-11, and MD-11F Airplanes

AGENCY: Federal Aviation Administration (FAA), Department of Transportation (DOT).

ACTION: Notice of proposed rulemaking (NPRM).

SUMMARY: The FAA proposes to supersede an existing airworthiness directive (AD) that applies to all Model DC-10-10, DC-10-10F, DC-10-15, DC-10-30, DC-10-30F (KC-10A and KDC-10), DC-10-40, DC-10-40F, MD-10-10F, MD-10-30F, MD-11, and MD-11F airplanes. The existing AD currently requires an inspection to determine if a certain fuel pump housing electrical connector is installed. The existing AD also requires a revision to the FAA-approved airplane flight manual (AFM) to advise the flightcrew of the appropriate procedures for disabling certain fuel pump electrical circuits following failure of a fuel pump housing electrical connector if applicable. The existing AD also requires the deactivation of certain fuel tanks or fuel pumps and the installation of placards if applicable. The existing AD allows the optional replacement of the fuel pump housing electrical connectors with new, improved parts, which would terminate the AFM revisions, deactivation of certain fuel tanks and fuel pumps, and placard installation. This proposed AD would instead require replacing the fuel pump housing electrical connector assembly with a new part and doing repetitive inspections for continuity, resistance, and insulation resistance, and doing corrective actions if necessary. This proposed AD results from reports of failures of a certain fuel pump housing electrical connector. We are proposing this AD to detect and correct insulation resistance degradation and arcing in the potted backside of the electrical connector assembly of the fuel boost/transfer pump housing, which could compromise its performance and cause an ignition source in the fuel tank, resulting in a fuel tank explosion and consequent loss of the airplane.

DATES: We must receive comments on this proposed AD by December 20, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Philip Kush, Aerospace Engineer, Propulsion Branch, ANM-140L, FAA, Los Angeles Aircraft Certification Office, 3960 Paramount Boulevard, Lakewood, California 90712-4137; telephone (562) 627-5263; fax (562) 627-5210.

SUPPLEMENTARY INFORMATION:

Comments Invited

We invite you to send any written relevant data, views, or arguments about this proposed AD. Send your comments to an address listed under the ADDRESSES section. Include “Docket No. FAA-2010-1044; Directorate Identifier 2010-NM-033-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On July 13, 2007, we issued AD 2007-15-05, Amendment 39-15134 (72 FR 40216, July 24, 2007), for all Model DC-10-10, DC-10-10F, DC-10-15, DC-10-30, DC-10-30F (KC-10A and KDC-10), DC-10-40, DC-10-40F, MD-10-10F, MD-10-30F, MD-11, and MD-11F airplanes. That AD requires an inspection to determine if a certain fuel pump housing electrical connector is installed, and a revision to the FAA-approved airplane flight manual (AFM) to advise the flightcrew of the appropriate procedures for disabling certain fuel pump electrical circuits following failure of a fuel pump housing electrical connector if applicable. That AD also requires the deactivation of certain fuel tanks or fuel pumps and the installation of placards if applicable. That AD allows the optional replacement of the fuel pump housing electrical connectors with new, improved parts, which would terminate the AFM revisions, deactivation of certain fuel tanks and fuel pumps, and placard installation. That AD resulted from a report of two failures of the fuel pump housing electrical connector. We issued that AD to prevent continued arcing following a short circuit of the fuel pump housing electrical connector, which could damage the conduit that protects the power lead inside the fuel tank; this condition could create an ignition source inside the fuel tank, which, in combination with flammable fuel vapors, could result in a fuel tank explosion and consequent loss of the airplane.

Actions Since Existing AD Was Issued

Since we issued AD 2007-15-05, operators have reported failures of fuel pump housing electrical connector assemblies having part number (P/N) 60-84355-1. The installation of P/N 60-84355-1 was required in AD 2007-15-05, but due to reported failures of that part, it needs to be replaced with a new fuel pump housing electrical connector assembly having part number (P/N) 60-84351. Inspecting the fuel boost/transfer pump housing electrical connector assembly and fuel boost/transfer pump, and replacing any fuel pump electrical connector assembly having P/N 60-84355-1 with one having P/N 60-84351, as required based on inspection results, will minimize the possibility of a potential ignition source in the fuel tanks and potential fuel tank explosion. If not corrected, insulation resistance degradation and arcing in the potted backside of the electrical connector assembly of the fuel boost/transfer pump housing could compromise the performance of the electrical connector assembly of the fuel boost/transfer pump housing and result in a failure that could introduce an ignition source into the fuel tank and cause a fuel tank explosion. The requirements of AD 2007-15-05 do not adequately address the identified unsafe condition.

Relevant Service Information

We have reviewed Boeing Alert Service Bulletin MD11-28A143, dated December 2, 2009; and Boeing Alert Service Bulletin DC10-28A261, dated December 1, 2009. The service bulletins describe procedures for replacing the fuel pump housing electrical connector assembly having P/N 60-84355-1 with new or serviceable fuel pump housing electrical connector assembly having P/N 60-84351; and doing repetitive inspections for continuity, resistance, and insulation resistance; and doing corrective actions if necessary. Corrective actions include replacing the fuel boost/transfer pump and replacing any fuel pump electrical connector assembly having P/N 60-84355-1 with one having P/N 60-84351.

Explanation of Change to This Proposed AD

We have removed the “Service Bulletin Reference” paragraph from this proposed AD. That paragraph was identified as paragraph (f) in the existing AD. Instead, we have provided the full service bulletin citations throughout this proposed AD. We have re-identified the paragraphs accordingly.

FAA's Determination and Requirements of the Proposed AD

We have evaluated all pertinent information and identified an unsafe condition that is likely to develop on other airplanes of the same type design. For this reason, we are proposing this AD, which would supersede AD 2007-15-05. This proposed AD would instead require accomplishing the actions described previously in accordance with Boeing Alert Service Bulletin MD11-28A143, dated December 2, 2009; and Boeing Alert Service Bulletin DC10-28A261, dated December 1, 2009.

Costs of Compliance

There are about 281 airplanes of the affected design in the worldwide fleet. The following table provides the estimated costs for U.S. operators to comply with this proposed AD.

Estimated Costs
Action | Work hours | Average labor rate per hour | Parts | Cost per airplane | Number of U.S.-registered airplanes | Fleet cost
Inspection | Between 20 and 36 per inspection cycle | $85 | $0 | Between $1,700 and $3,060 per inspection cycle | 281 | Between $477,700 and $859,860 per inspection cycle.
Replacement | Up to 44 | 85 | Up to $4,478 | Up to $8,218 | 281 | Up to $2,309,258.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-15134 (72 FR 40216, July 24, 2007) and adding the following new AD:

McDonnell Douglas Corporation: Docket No. FAA-2010-1044; Directorate Identifier 2010-NM-033-AD.

Comments Due Date

(a) The FAA must receive comments on this AD action by December 20, 2010.

Affected ADs

(b) This AD supersedes AD 2007-15-05, Amendment 39-15134.

Applicability

(c) This AD applies to all McDonnell Douglas Corporation Model DC-10-10, DC-10-10F, DC-10-15, DC-10-30, DC-10-30F (KC-10A and KDC-10), DC-10-40, DC-10-40F, MD-10-10F, MD-10-30F, MD-11, and MD-11F airplanes, certificated in any category.

Subject

(d) Air Transport Association (ATA) of America Code 28: Fuel.

Unsafe Condition

(e) This AD results from reports of failures of the fuel pump housing electrical connector. The Federal Aviation Administration is issuing this AD to detect and correct insulation resistance degradation and arcing in the potted backside of the electrical connector assembly of the fuel boost/transfer pump housing, which could compromise its performance and cause an ignition source in the fuel tank, resulting in a fuel tank explosion and consequent loss of the airplane.

Compliance

(f) You are responsible for having the actions required by this AD performed within the compliance times specified, unless the actions have already been done.

Inspection and Change

(g) Within 10 months after the effective date of this AD, do the actions in paragraph (g)(1) or (g)(2) of this AD, in accordance with the Accomplishment Instructions of Boeing Alert Service Bulletin DC10-28A261, dated December 1, 2009; or Boeing Alert Service Bulletin MD11-28A143, dated December 2, 2009; as applicable.

(1) Replace the fuel pump electrical connector assembly having part number (P/N) 60-84355-1 with new P/N 60-84351; or

(2) Do the actions required by paragraphs (g)(2)(i) and (g)(2)(ii) of this AD.

(i) Using a digital multi-meter, do a continuity, resistance, and insulation resistance inspection from the terminal strip through the fuel boost/transfer pump; and all applicable corrective actions specified in the service bulletin. Do all applicable corrective actions before further flight.

(ii) Except as required by paragraph (i) of this AD, within 12 months after accomplishing the inspection required by paragraph (g)(2)(i) of this AD: Replace the fuel pump electrical connector assembly having part number (P/N) 60-84355-1 with a new fuel pump electrical connector assembly having P/N 60-84351.

(h) Before further flight after installing the new fuel pump electrical connector assembly, insert the applicable Interim Operating Procedure regarding abnormal operations for failure of the fuel pump housing electrical connector into the Procedures section of the applicable airplane flight manual, in accordance with the applicable bulletin identified in Table 1 of this AD.

Table 1—Bulletins
Bulletin— | Dated— | To the—
Boeing DC-10 Operations Bulletin 2-001B | January 25, 2010 | Boeing DC-10 Flight Crew Operating Manual (FCOM).
Boeing MD-10 FCOM Advisory Bulletin 2-01B | January 25, 2010 | Boeing MD-10 FCOM.
Boeing MD-11 FCOM Advisory Bulletin 2-05C | January 25, 2010 | Boeing MD-11 FCOM.

Repetitive Inspections

(i) Within 18 months after replacing the fuel pump electrical connector assembly as required by paragraph (g) of this AD, do a continuity, resistance, and insulation resistance inspection from the terminal strip through the fuel boost/transfer pump, in accordance with the Accomplishment Instructions of Boeing Alert Service Bulletin DC10-28A261, dated December 1, 2009; or Boeing Alert Service Bulletin MD11-28A143, dated December 2, 2009; as applicable. Do all applicable corrective actions before further flight in accordance with the Accomplishment Instructions of Boeing Alert Service Bulletin DC10-28A261, dated December 1, 2009; or Boeing Alert Service Bulletin MD11-28A143, dated December 2, 2009; as applicable. Repeat the inspections thereafter at intervals not to exceed 18 months.

Alternative Methods of Compliance (AMOCs)

(j)(1) The Manager, Los Angeles Aircraft Certification Office (ACO), FAA, has the authority to approve AMOCs for this AD, if requested using the procedures found in 14 CFR 39.19. Send information to ATTN: Philip Kush, Aerospace Engineer, Propulsion Branch, ANM-140L, FAA, Los Angeles Aircraft Certification Office, 3960 Paramount Boulevard, Lakewood, California 90712-4137; telephone (562) 627-5263; fax (562) 627-5210.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Issued in Renton, Washington, on October 21, 2010.
Michael Kaszycki,
Acting Manager, Transport Airplane Directorate, Aircraft Certification Service.

[FR Doc. 2010-28092 Filed 11-4-10; 8:45 am]

BILLING CODE 4910-13-P